DEPARTMENT OF COMMERCE

Foreign-Trade Zones Board

[S-085-2015]

Approval of Subzone Status, Michaels Stores Procurement Company, Inc., Lancaster, California

On June 9, 2015, the Acting Executive Secretary of the Foreign-Trade Zones (FTZ) Board docketed an application submitted by the City of Palmdale, California, grantee of FTZ 191, requesting subzone status subject to the existing activation limit of FTZ 191, on behalf of Michaels Stores Procurement Company, Inc., in Lancaster, California.

The application was processed in accordance with the FTZ Act and Regulations, including notice in the Federal Register inviting public comment (80 FR 34140, 6/15/2015). The FTZ staff examiner reviewed the application and determined that it meets the criteria for approval. Pursuant to the authority delegated to the FTZ Board Executive Secretary (15 CFR Sec. 400.36(f)), the application to establish Subzone 191A is approved, subject to the FTZ Act and the Board's regulations, including Section 400.13, and further subject to FTZ 191's 1,446.2-acre activation limit.

Dated: August 6, 2015.
Andrew McGilvray,
Executive Secretary.

[FR Doc. 2015-20090 Filed 8-13-15; 8:45 am]

BILLING CODE 3510-DS-P